DEPARTMENT OF HEALTH AND HUMAN SERVICES

National Institutes of Health

National Heart, Lung, and Blood Institute; Amend Notice of Meeting

Notice is hereby given of a change in the meeting of the National Heart, Lung, and Blood Institute Special Emphasis Panel, June 6, 2023, 1 p.m. to 5 p.m., National Institutes of Health, 6705 Rockledge Drive, Bethesda, MD, 20892 which was published in the Federal Register on May 15, 2023, FR Document No. 2023-10224, 88 FRN 30997.

This notice is being amended to correct the June 6, 2023 meeting title that was published as “The National Heart, Lung, and Blood Institute Special Emphasis Panel SPECIAL EMPHASIS PANEL”. The correct title is “The National Heart, Lung, and Blood Institute Special Emphasis Panel NRSA Member Conflict Panel”. The meeting is closed to the public.

Dated: May 18, 2023.
Melanie J. Pantoja,
Program Analyst, Office of Federal Advisory Committee Policy.

[FR Doc. 2023-10936 Filed 5-22-23; 8:45 am]

BILLING CODE 4140-01-P